DEPARTMENT OF ENERGY

Federal Energy Regulatory Commission

Combined Notice of Filings

Take notice that the Commission has received the following Natural Gas Pipeline Rate and Refund Report filings:

Docket Number: PR20-70-001.

Applicants: Regency Intrastate Gas LP.

Description: Tariff filing per 284.123(b),(e)/: Revised Operating Statement to be effective 6/2/2020.

Filed Date: 10/13/2020.

Accession Number: 202010135157.

Comments/Protests Due: 5 p.m. ET 11/3/2020.

Docket Numbers: RP20-1229-001.

Applicants: Cheniere Corpus Christi Pipeline, LP.

Description: Tariff Amendment: Housekeeping Supplemental Filing to be effective 10/28/2020.

Filed Date: 10/13/20.

Accession Number: 20201013-5193.

Comments Due: 5 p.m. ET 10/26/20.

Docket Numbers: RP21-53-000.

Applicants: Panhandle Eastern Pipe Line Company, LP.

Description: § 4(d) Rate Filing: Housekeeping Filing on 10-13-20 to be effective 11/13/2020.

Filed Date: 10/13/20.

Accession Number: 20201013-5151.

Comments Due: 5 p.m. ET 10/26/20.

Docket Numbers: RP21-54-000.

Applicants: El Paso Natural Gas Company, L.L.C.

Description: § 4(d) Rate Filing: Non-Conforming Agreements Update (NMG) to be effective 1/1/2021.

Filed Date: 10/13/20.

Accession Number: 20201013-5165.

Comments Due: 5 p.m. ET 10/26/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2020.
Nathaniel J. Davis, Sr.,
Deputy Secretary.

[FR Doc. 2020-23205 Filed 10-19-20; 8:45 am]

BILLING CODE 6717-01-P